DEPARTMENT OF THE INTERIOR

Fish and Wildlife Service

[FWS-HQ-IA-2014-N156; FXIA16710900000-145-FF09A30000]

Notice of Suspension of Imports of Zimbabwe Elephant Trophies Taken in 2014 on or After April 4, 2014

AGENCY: Fish and Wildlife Service, Interior.

ACTION: Notice.

SUMMARY: On July 17, 2014, the U.S. Fish and Wildlife Service (Service) made a determination that the import of sport-hunted African elephant trophies taken in Zimbabwe on or after April 4, 2014, until December 31, 2014, would be suspended. The decision to suspend importation of African elephant trophies taken in Zimbabwe was due to the Service being unable to determine that the killing of the animal whose trophy is intended for import into the United States would enhance the survival of the species in the wild. Due to technical revisions needed to address an editorial error and to reflect consideration of ETIS data from the 16th Meeting of the Conference of Parties to CITES unintentionally left out of the July 17 finding document, the July 17 document was revised on July 22. These technical revisions did not alter the analysis or decision announced in the July 17 finding. This 2014 determination supersedes the interim suspension published in the Federal Register on May 12, 2014.

ADDRESSES: Timothy J. Van Norman, Chief, Branch of Permits, Division of Management Authority, U.S. Fish and Wildlife Service, MS: IA, 5275 Leesburg Pike, Falls Church, VA 22041-3803; fax (703) 358-2280; or email DMAFR@fws.gov.

FOR FURTHER INFORMATION CONTACT: Timothy J. Van Norman, (703) 358-2104 (telephone); (703) 358-2280 (fax); DMAFR@fws.gov (email).

SUPPLEMENTARY INFORMATION: The African elephant (Loxodonta africana) is listed as threatened under the Endangered Species Act (ESA), 16 U.S.C. 1531 et seq., and is regulated under a special rule found at 50 CFR 17.40(e). The special rule includes specific requirements for the import of sport-hunted trophies. Under paragraph 17.40(e)(3)(iii)(C), in order for the Service to authorize the import of a sport-hunted elephant trophy, the Service must find that the killing of the animal whose trophy is intended for import would enhance the survival of the species in the wild (an “enhancement finding”).

Zimbabwe has had an active elephant hunting program for over 20 years, and imports into the United States have occurred at least since 1997, when the Zimbabwe elephant population, along with populations in Botswana and Namibia, was downlisted to Appendix II of the Convention on International Trade in Endangered Species of Wild Fauna and Flora (CITES) (South Africa's population was downlisted at a later date). When the population was downlisted, the Service published a Federal Register notice that acknowledged that, because Zimbabwe's elephants were an Appendix-II population, no U.S. import permit would be required to import trophies, but we did state that, in accordance with the special rule under the ESA, the requirement for an enhancement finding would continue to apply (62 FR 44627; August 22, 1997). In that Federal Register notice, we stated that, in making the required enhancement finding for the import of sport-hunted trophies, the Service would review the status of the elephant population and the total management program for elephants in each country to ensure that the program was promoting the conservation of the species. The Federal Register also noted that the Service would make such findings on a periodic basis upon receipt of new information on the species' population or management. If, based on new information, the conditions of the special rule were no longer met, the Service explained that it would publish a notice in the Federal Register of any change.

On April 4, 2014, the Service announced an interim suspension of imports of sport-hunted elephant trophies taken in Zimbabwe during the 2014 season. This finding was revised on April 17, 2014, primarily to clarify that the suspension applied only to elephants hunted on or after April 4, 2014. This determination was announced in the Federal Register on May 12, 2014 (79 FR 26986). The decision to establish an interim suspension of imports of elephant trophies from Zimbabwe was due to the Service having insufficient information on the status of elephants in Zimbabwe as well as Zimbabwe's current elephant management program to make an enhancement finding.

Although African elephant conservation issues have received significant attention within CITES over the last 10 or more years, the Service has limited information on elephant management programs, efforts to control poaching, and the effects of legal hunting in Zimbabwe. While the Service was aware of a 1997 national elephant management plan, we were not aware of any updates to the plan, or whether an adaptive management approach had been taken in implementing the plan. In 2007, the Service sent a letter to the Parks and Wildlife Management Authority of Zimbabwe (ZPWMA) requesting additional information. While we did receive some information at that time, we had not received any additional updates directly from Zimbabwe since then.

Service representatives met in person with representatives from Zimbabwe at various times in the past 6 years, but again, little new or additional information was obtained. As stated, because African elephants have received a significant level of attention from the CITES Parties (member nations), including the United States, the Service had received information on African elephants in Zimbabwe from documents produced for CITES meetings or for other CITES-related activities. However, this information was focused more on the ivory trade and poaching, with less about regulatory mechanisms in place that would allow for appropriate management (including sport hunting) of elephants, sustainable utilization of elephants, and how elephant management is integrated into human communities to reduce human-elephant conflicts and support elephant populations.

On April 4, 2014, the Service sent a letter to Zimbabwe with a number of questions regarding the status of elephants in Zimbabwe and the hunting program. On April 17, 2014, the Director-General of ZPWMA sent a response (herein referred to as ZPWMA response) to the Service inquiry. Several weeks later, the Service received a number of documents, copies of Zimbabwean laws, and other supporting documentation that was referenced in the ZPWMA response. In addition, on June 6, 2014, the Service received additional supporting information from a U.S.-based conservation and hunting non-governmental organization (NGO). The Service has also received a number of comments from individuals and associations connected to the hunting industry in Zimbabwe or southern Africa.

Zimbabwe's current national elephant management plan consists of primarily two documents: The Policy and Plan for Elephant Management in Zimbabwe (1997) and Elephant Management in Zimbabwe, third edition (July 1996). Although the documents provide a well-developed list of goals and objectives, there is no information in these documents on how to achieve or fulfill these goals and objectives, nor do there appear to be any subsequent updates of the documents or reports that provide any indication of progress on fulfilling these management goals and objectives. Without management plans with specific goals and actions that are measurable and reports on the progress of meeting these goals, the Service cannot determine if ZPWMA is implementing the well-articulated, but general, goals and objectives that appear in Elephant Management in Zimbabwe and The Policy and Plan for Elephant Management in Zimbabwe. Overall, ZPWMA did not provide, and the Service otherwise does not have, any information indicating that Zimbabwe is implementing, on a national scale, appropriate management measures for its elephant populations.

According to the IUCN SSC African Elephant Database report 2013 Africa, the elephant population in Zimbabwe in 2007 was 99,107, of which 85 percent (84,416) was classified as “definite” and only 0.3 percent (291) was classified as “speculative.” While the total population in 2012 was estimated at 100,291, only 47 percent (47,366) was classified as “definite” and 45 percent (45,375) were classified as “speculative.” According to this report, half of the population estimates included in 2012 is older than 10 years, resulting in a degradation of the quality of data. Very few new surveys have been conducted since 2007, and of those conducted, they only covered a small percentage of the overall population. While the Zimbabwe government continues to state that elephant population estimates exceed 100,000 elephants, this number is clearly based on outdated information.

Without current population estimates and a better understanding of the offtake from other sources, such as poaching, culling, and problem animal control, it is not possible for the Service to determine if the total offtake exceeds recommendations made in Zimbabwe's management document, Elephant Management in Zimbabwe, that no more than 0.75 percent of all males in the population should be removed annually. With the reliability of current population estimates, it is not possible to evaluate if the current export quota of 500 elephants should be adjusted. There is currently a multi-national effort, the Pan African Elephant Aerial Survey, to conduct aerial surveys across most of the African elephant's range in 2014, including Zimbabwe. The survey will provide a more definitive estimate of Zimbabwe's population, along with a more robust carcass ratio (number of carcasses observed compared to the number of live elephants counted). In conjunction with data that will come from efforts carried out under the CITES' project, Monitoring the Illegal Killing of Elephants, a better understanding of the population dynamics within Zimbabwe can be developed. However, to provide accurate estimates, the Pan African Elephant Aerial Survey would have to be conducted using standardized survey protocols that incorporate modern technological improvements, including the use of the latest technological advancements such as voice-data recordings and geo-referenced digital photographs of all elephant and carcass sightings.

The Zimbabwean Parks and Wild Life Act has established the regulatory mechanism for the ZPWMA and its programs, and also provides for substantial penalties for the unlawful possession of or trading in ivory. In addition, the General Laws Amendment Act (No. 5) of 2010 provides for mandatory imprisonment of not less than 9 years for poaching. If properly enforced, it appears these penalties would be a sufficient deterrent for poachers. However, based on the information the Service currently has, we do not have a good understanding of the ZPWMA's annual operational budget, how much money is generated by elephant hunting, or how these funds (or the lack of these funds) impacts the ability of ZPWMA to adequately implement the Parks and Wild Life Act or to carry out day-to-day management activities or anti-poaching efforts. In January 1996, the Government of Zimbabwe approved the establishment of the Parks and Wild Life Conservation Fund, a statutory fund responsible for financing operations directly from wildlife revenues. However, revenues generated through sport hunting conducted on State and private lands are primarily used to finance ZPWMA, and only limited additional funding is available from appropriated funds from the Zimbabwe government or outside funding from NGOs. A 2002 Panel of Experts, formed in connection with CITES, raised concerns as to the status of ZPWMA relating to its weak financial base, lack of management skills, inadequate and old equipment, and poor infrastructure. No new information relevant to these concerns was provided by ZPWMA or other sources as a result of the Service's April 4 inquiry. We have no current information as to the funding level of ZPWMA or any indication that the financial base, management skills, equipment, or infrastructure have improved.

According to information provided to the Service, Zimbabwe has methodology, including participation from a number of stakeholders, for establishing annual hunting quotas for all areas of the country. While the methodology is based on sound wildlife management principles used globally, the Service did not receive specific information on how these quotas are established, whether other forms of offtake, such as poaching and problem animal control, were taken into account, or to what degree biological factors are taken into consideration (as opposed to economic and societal considerations). The current quota-setting process utilized by ZPWMA may actually be a very effective system that takes into consideration all of these issues; however, without documentation of the system, the Service cannot determine if sport-hunting quotas are reasonable or beneficial to elephant populations and, therefore, whether sport hunting is enhancing the survival of the species.

In 1989, Zimbabwe established the Communal Areas Management Programme for Indigenous Resources (CAMPFIRE) to encourage reduction in human-elephant conflicts through conservation-based community development and to provide an economic incentive to improve community tolerance of wildlife, including elephants. The CAMPFIRE program has been the model for community-based conservation efforts in several other African countries and has been identified as an innovative program in the past. However, the CAMPFIRE program has come under criticism relating to excessive retention of generated funds by district councils, which resulted in diminished benefits being realized by the communities it was designed to help. Information supplied by the CAMPFIRE Association to the CITES Panel of Experts in 2002 indicates that this situation may be improving. The information that was provided to the Service does not, however, support or refute this statement. Under a community-based conservation program, like CAMPFIRE, rural communities should benefit from revenue generated by sport hunting. With increased human-elephant conflicts on Communal lands, sport hunting may be an important tool that gives these communities a stake in sustainable management of the elephant as a natural and economic resource and provides the enhancement that would meet the U.S. criteria for authorizing imports of trophies. However, without current information on how funds are utilized and the basis for hunting offtake, the Service is unable to confirm this assumption.

It should be stated, however, that there are clearly “bright spots” of elephant conservation efforts being carried out by non-governmental entities and individuals scattered around Zimbabwe that are providing a benefit to elephants. Individual safari outfitters and landowners have established their own management efforts, including anti-poaching activities, on areas under their control, either through ownership of the land or leases. These entities have made significant strides to ensure the long-term survival of elephants on their lands. These efforts, however, can and have been adversely affected by unilateral or seemingly arbitrary actions taken by the Central government or Rural District Councils, such as past land redistribution activities, that minimizes their conservation efforts. These “bright spots” are not numerous enough, in and of themselves, to overcome the problems currently facing Zimbabwe elephant populations or to support a finding that sport hunting throughout Zimbabwe would enhance the survival of the species.

Without current data on population numbers and trends, government efforts to manage elephant populations, efforts to address human-elephant conflicts and poaching, and the state of the hunting program within the country, the Service is unable to make a finding that sport hunting in Zimbabwe is enhancing the survival of the species and that imports of trophies would meet the criteria established under the ESA for African elephants. The July 17, 2014 enhancement finding (subsequently revised on July 22 to correct technical errors) has been posted at http://www.fws.gov/international/pdf/enhancement-finding-July-2014-elephant-Zimbabwe.PDF. In addition, the press release announcing the suspension and frequently asked questions is available on the Service's Web page (www.fws.gov/international).

This suspension does not prohibit U.S. hunters from traveling to Zimbabwe and participating in an elephant hunt. The ESA does not prohibit take (e.g., hunting) outside the United States; it only prohibits import of trophies taken during such hunts without authorization under the ESA. Therefore, it is also possible that hunters who hunt in Zimbabwe on or after April 4, 2014, could import their trophies at a later date if the Service can determine in the future that such imports meet the criteria under the ESA.

Further, this decision does not affect elephants taken in Zimbabwe prior to the Service's April 4, 2014, decision. Elephants hunted in previous hunting seasons are also still eligible to be imported, provided all CITES and import regulations are met.

Dated: July 24, 2014.
Brenda Tapia,
Program Analyst/Data Administrator, Branch of Permits, Division of Management Authority.

[FR Doc. 2014-18013 Filed 7-30-14; 8:45 am]

BILLING CODE 4310-55-P